SURFACE TRANSPORTATION BOARD

[Docket No. 36869]

Iowa Northern Railway Company—Trackage Rights Exemption—Cedar River Railroad Company

Iowa Northern Railway Company (IANR) has filed a verified notice of exemption under 49 CFR 1180.2(d)(7) to acquire limited local trackage rights on a line of railroad of Cedar River Railroad Company (CEDR) ¹ between milepost 0.0 at Mona Junction in Cedar Falls, Iowa, and milepost 85.0 in London Township, Minn. (the Line), a distance of approximately 85.0 miles.²

¹ The verified notice states that IANR and CEDR are indirect rail carrier subsidiaries of Canadian National Railway Company (CNR), whose U.S. rail carrier subsidiaries (including IANR and CEDR) are held directly or indirectly by CNR's wholly owned subsidiary Grand Trunk Corporation (GTC). See Can. Nat'l Ry.—Control—Iowa N. Ry., FD 36744 (STB served Jan. 14, 2025); see also Can. Nat'l Ry.—Control—Ill. Cent. Corp., 4 S.T.B. 122 (1999); Ill. Cent. Corp.—Control—CCP Holdings, Inc., FD 32858 (STB served May 14, 1996).

² In its verified notice of exemption, IANR states that it owns, leases, or operates approximately 218 miles of rail line extending generally from Cedar Rapids, Iowa, through Waterloo, Iowa, and Cedar Falls, Iowa, to Manly, Iowa, and that CEDR owns approximately 100 miles of rail line extending north from Cedar Falls through Charles City, Iowa, to Glenville, Minn. The verified notice states that IANR and CEDR connect at Cedar Falls.

According to the verified notice, on November 3, 2025, IANR and CEDR entered into a written trackage rights agreement that permits IANR to operate trains with its own crews to and from an ethanol facility of Absolute Energy LLC (or any successor entity) on CEDR's line at Mona/St. Ansgar, Iowa, as well as to serve other facilities on CEDR's line that tender or receive “co-load” traffic in blocks of at least 25 cars that are combined into unit trains for movement to or from a single off-line location. IANR states that the trackage rights are intended to provide operational flexibility and reliability in service to customers.³

³ The verified notice states that the parties' agreement is in the form of an amendment to an existing trackage rights agreement, previously submitted to the Board, between CEDR and Chicago, Central & Pacific Railroad Company (CCP), another GTC affiliate. See Chi., Cent. & Pac. R.R.—Trackage Rts. Exemption—Cedar River R.R., FD 36722 (STB served Sept.15, 2023). In a related proceeding, CCP has filed a verified notice of exemption under 49 CFR 1180.2(d)(7) to extend its existing trackage rights on CEDR's rail line, pursuant to the same amendment to the trackage rights agreement. See Chi., Cent. & Pac. R.R.—Trackage Rts. Exemption—Cedar River R.R., Docket No. FD 36722 (Sub-No. 1). According to the verified notice, the amended trackage rights agreement admits IANR to the same CEDR line over which CCP holds or is obtaining trackage rights.

The transaction may be consummated on or after December 25, 2025, the effective date of the exemption (30 days after the verified notice was filed).

As a condition to this exemption, any employees affected by the acquisition of the trackage rights will be protected by the conditions imposed in Norfolk & Western Railway—Trackage Rights—Burlington Northern, Inc., 354 I.C.C. 605 (1978), as modified in Mendocino Coast Railway—Lease & Operate—California Western Railroad, 360 I.C.C. 653 (1980).

If the verified notice contains false or misleading information, the exemption is void ab initio. Petitions to revoke the exemption under 49 U.S.C. 10502(d) may be filed at any time. The filing of a petition to revoke will not automatically stay the effectiveness of the exemption. Petitions for stay must be filed no later than December 18, 2025 (at least seven days before the exemption becomes effective).

All pleadings, referring to Docket No. FD 36869, must be filed with the Surface Transportation Board either via e-filing on the Board's website or in writing addressed to 395 E Street SW, Washington, DC 20423-0001. In addition, a copy of each pleading must be served on IANR's representative, Thomas J. Litwiler, Fletcher & Sippel LLC, 29 North Wacker Drive, Suite 800, Chicago, IL 60606-3208.

According to IANR, this action is categorically excluded from environmental review under 49 CFR 1105.6(c) and from historic preservation reporting requirements under 49 CFR 1105.8(b).

Board decisions and notices are available at www.stb.gov.

Decided: December 8, 2025.
By the Board, Anika S. Cooper, Chief Counsel, Office of Chief Counsel.
Brendetta Jones,
Clearance Clerk.

[FR Doc. 2025-22502 Filed 12-10-25; 8:45 am]

BILLING CODE 4915-01-P